DEPARTMENT OF THE INTERIOR

National Park Service

Notice of Inventory Completion for Native American Human Remains and Associated Funerary Objects in the Possession of the Colorado Historical Society, Denver, CO

AGENCY: National Park Service.

ACTION: Notice.

Notice is hereby given in accordance with provisions of the Native American Graves Protection and Repatriation Act (NAGPRA), 43 CFR 10.9, of the completion of an inventory of human remains and associated funerary objects in the possession of the Colorado Historical Society, Denver, CO.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by Colorado Historical Society professional staff in consultation with representatives of the Arapahoe Tribe of the Wind River Reservation, Wyoming; Cheyenne-Arapaho Tribes of Oklahoma; Comanche Indian Tribe, Oklahoma; Fort Sill Apache Tribe of Oklahoma; Kiowa Indian Tribe of Oklahoma; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Southern Ute Tribe of the Southern Ute Reservation, Colorado; Three Affiliated Tribes of the Fort Berthold Reservation, North Dakota; Ute Indian Tribe of the Uintah & Ouray Reservation, Utah; and Ute Mountain Tribe of the Ute Mountain Reservation, Colorado, New Mexico & Utah. The following tribes were invited, but were unable to participate in consultations: Apache Tribe of Oklahoma; Jicarilla Apache Tribe of the Jicarilla Apache Indian Reservation, New Mexico; Shoshone Tribe of the Wind River Reservation, Wyoming; and Wichita and Affiliated Tribes (Wichita, Keechi, Waco & Tawakonie), Oklahoma.

In 1935, human remains representing one individual consisting of a scalplock were donated to the Colorado Historical Society by David H. Moffat, a well-known businessman who settled in Colorado about 1860. The circumstances under which Mr. Moffat acquired the scalplock are not clear. Museum documentation and accession records indicate that the individual is Native American. No known individual was identified. No associated funerary objects are present.

In May 1934, human remains representing one individual consisting of a partial skull were donated to the Colorado Historical Society by Jay Monaghan of Meeker, CO. According to the society's accession records, Mr. Monaghan found the skull on Skull Creek in Moffat County, CO, approximately 90 miles from Craig, CO. Museum documentation and examination of the skull indicate that the individual is Native American. No known individual was identified. No associated funerary objects are present.

In 1936, human remains representing one individual were donated to the Colorado Historical Society by Nina Nicholas. The remains, consisting of a fragment of mandible and maxilla, along with loose teeth, were found in a sandpit near Boyero, Lincoln County, CO. Physical examination of the teeth indicates that this individual is Native American. No known individual was identified. No associated funerary objects are present.

In 1913, human remains representing a minimum of one individual were donated to the Colorado Historical Society. The remains, consisting of a skull and mandible of an adult male, were found in Denver, CO, during a building construction project. The face, base, and right side of the skull are missing. A tag attached to the mandible states, “It is doubtful if this jaw belonged to the present skull, although they have been kept together.” In the opinion of James Hummert, a physical anthropologist who assessed these remains in 1981, the skull and mandible “may or may not belong together.” Mr. Hummert also noted that the teeth indicate that this individual differs from Anasazi populations, supporting the probable provenience of this person from the eastern plains of Colorado. Based on physical examination, the teeth present in the mandible show very little wear. The weathering of both the skull and mandible indicates that the remains probably have greater antiquity than the Euro-American occupation period of the Denver area. This individual is therefore presumed to be Native American. No known individual was identified. No associated funerary objects are present.

Between 1879 and 1930, human remains representing one individual were donated to the Colorado Historical Society. The nearly complete remains are of an adult female found near Black Hawk, CO. Museum accession records indicate that there was no metal found with this burial, indicating probable burial prior to the historic period. No known individual was identified. No associated funerary objects are present.

In September 1936, human remains representing one individual were donated to the Colorado Historical Society by Joseph M. Crow of Hooper, CO. Mr. Crow found the remains at the Sand Dunes in the San Luis Valley of Colorado. Physical examination indicates that the remains, consisting of a partial skull and mandible, are from an individual approximately 16 years of age. Wear on the teeth indicates that this individual is Native American. No known individual was identified. No associated funerary objects are present.

On April 16, 1942, human remains representing one individual were donated to the Colorado Historical Society by Guy P. Walsh of Wray, CO. Records indicate that the remains were probably found by a Mr. White near Bayfield, CO. Physical examination of the remains, consisting of a skull and mandible from an adult female, 30-35 years of age, revealed cranial and dental characteristics consistent with Native American individuals. No known individual was identified. No associated funerary objects are present.

Prior to 1963, human remains representing two individuals were donated to the Colorado Historical Society. These remains might have been part of a donation made by Anna Scarlett and M.D. Davis during the 1920's, but this is uncertain. The remains consist of a highly fragmentary skull and mandible of an adult, and the fragmented femora of an adolescent. The indistinguishable coloration of the remains and soil indicates that the adolescent's remains were most likely found in the same location as the adult's remains. The teeth show heavy wear indicating that the adult is probably Native American, and due to the proximity of the burials, the adolescent is probably also Native American. No known individuals were identified. No associated funerary objects are present.

In 1939, human remains representing one individual were donated to the Colorado Historical Society by Clinton Buniger of Fruita, CO. The remains are nearly complete and represent an infant approximately 6-9 months of age. The remains were found near the Colorado-Utah State line in the vicinity of Fruita, CO. Physical examination revealed facial characteristics indicating that this person is Native American. Based upon the method of manufacture of the ribbon that accompanies this individual, these remains are considered to be from the historic period. No known individual was identified. The two associated funerary objects are a small amount of resinous substance and a blue satin ribbon.

In May 1944, human remains representing 38 individuals were bequeathed to the Colorado Historical Society by James Mellinger of Longmont, CO. Mr. Mellinger, an avocational archeologist, collected remains during 17 years of archeological work in South Dakota, Wyoming, Utah, Arizona, New Mexico, and Colorado. His collection of over 6,000 items was accessioned by the Colorado Historical Society in 1951. No field notes or other records accompanied the collection. Knowledge of Mr. Mellinger's collections and the physical characteristics of these remains indicate that the individuals are likely to be Native American. No known individuals were identified. No associated funerary objects are present.

In 1944, another set of human remains representing one individual was bequeathed to the Colorado Historical Society by James Mellinger of Longmont, CO. The remains, consisting of a right innominate, right femur, right tibia, and right fibula, are from an adult male aged 20-25 years, and were found “on the open plain” at Grand Gulch, UT. Knowledge of Mr. Mellinger's collections and the physical characteristics of these remains indicate that the individual is likely to be Native American. One projectile point, which was unlikely to have been placed intentionally with the individual at the time of death or later as part of the death rite or ceremony, was imbedded in the interior surface of the innominate. No known individual was identified. No associated funerary objects are present.

Between 1879 and 1930, human remains representing 10 individuals were donated to the Colorado Historical Society. The only documentation referring to these individuals appears as single-line entries in an accession ledger from March 1930. The precise dates of acquisition and proveniences of these individuals are not known. The Colorado Historical Society has never formally collected non-Indian human remains, and many undocumented Colorado Historical Society remains have been identified as Native American on the basis of cranial morphology. The totality of these circumstances supports the identification of these individuals as Native American. No known individuals were identified. No associated funerary objects are present.

Between 1879 and 1981, human remains representing a minimum of 168 individuals were donated to the Colorado Historical Society. No documentation referring to these individuals can be located at the society; precise dates of acquisition and proveniences of these individuals, therefore, are not known. The Colorado Historical Society has never formally collected non-Indian human remains, and many undocumented Colorado Historical Society remains have been identified as Native American on the basis of cranial morphology. The totality of these circumstances supports the identification of these individuals as Native American. No known individuals were identified. The one associated funerary object is a metal bracelet that encircles the arm of one individual.

In 1990, human remains representing one individual consisting of cranial fragments and one femur fragment were found by unknown workmen during a house construction project in Larimer County, CO. Dr. Diane France of Colorado State University studied these remains and determined that the individual is Native American. No known individual was identified. No associated funerary objects are present.

In 1990, human remains representing two individuals were found by city workers digging a trench in Fort Collins, CO. Dr. Diane France determined that the remains are those of two adult Native Americans. Dr. Calvin Jennings, also of Colorado State University, stated that these individuals probably dated from 1,500 to 2,000 years before present. No known individuals were identified. No associated funerary objects are present.

In 1992, human remains representing one individual consisting of the cranium and various bones were found by two junior high school boys in Colorado Springs, CO. The level of preservation of the remains suggests a date of less than 1,000 years ago, possibly 200-300 years before present. Based upon this information, these remains were identified as Native American. No known individual was identified. No associated funerary objects are present.

In May 1992, the University of Northern Colorado conducted brief site testing and excavation in Weld County, CO, and recovered human remains representing a minimum of three individuals. These remains were taken to the University of Northern Colorado where they were analyzed by a physical anthropologist who identified them as Native American. This location is known as the Garcia or Buckwheat site. No known individuals were identified. No associated funerary objects are present.

In June 1993, human remains representing one individual were found by children removing rocks from a crevice near Peyton, CO. On July 1, 1993, Assistant State Archaeologist Kevin Black made a site inspection and collected the few remaining blue beads and bone fragments. Based on manner of interment, and analysis by physical anthropologist Dr. Michael Hoffman, the individual was identified as Native American. On the basis of the style and manufacture of the beads, the burial is dated to circa A.D. 1840-1860. No known individual was identified. The associated funerary objects consist of 537 blue glass beads and 3 white glass beads.

In September 1993, a member of the Colorado Archaeological Society received human remains representing one individual from an unknown person residing in Vail, CO. These remains are said to have originated from the Cherry Creek area of Denver County, CO. Based on the provenience of the remains, the individual is presumed to be Native American. No known individual was identified. No associated funerary objects are present.

In November 1993, the police department in Northglenn, Adams County, CO, recovered from a dumpster the remains of one individual, assumed by the Colorado Historical Society to have been previously buried. An Adams County Sheriff's Department forensic specialist determined the remains to be Native American. No known individual was identified. No associated funerary objects are present.

In July 1994, the remains of one individual were found near Bronquist, CO. The Pueblo County, CO, Coroner determined the remains to be ancient Native American. No known individual was identified. The one associated funerary object is a Rose Spring-type projectile point.

In 1995, human remains representing one individual were discovered during outdoor work at a private home in Wheat Ridge, CO. The Jefferson County, CO, coroner determined the remains to be Native American. No known individual was identified. No associated funerary objects are present.

In 1995, human remains representing one individual were discovered in the Founder's Village subdivision near Castle Rock, CO. Professor Michael Hoffman of Colorado College determined the remains to be ancient Native American. No known individual was identified. The one associated funerary object is a bifacial knife.

In August 1995, human remains representing one individual were uncovered during construction at a private home in Arapahoe County, CO. A physical anthropologist determined that the cranium showed Native American characteristics. No known individual was identified. No associated funerary objects are present.

In June 1996, a local family recovered human remains representing one individual from the Pueblo Reservoir shoreline. The geographical location and apparent antiquity of the bones suggest Native American origin. No known individual was identified. No associated funerary objects are present.

In October 1996, two boys found human remains representing one individual near Evergreen, CO. Physical analysis confirms that this individual is Native American. A radiocarbon date of a nearby charcoal fragment provides a date of approximately 1,600 years before present. One projectile point, which was unlikely to have been placed intentionally with the individual at the time of death or later as part of the death rite or ceremony, and may have been the cause of death, was lodged in the vertebral column. No known individual was identified. No associated funerary objects are present.

In March 1997, an anonymous man brought to the State archeologist a small box containing human remains representing one individual. These remains are said to have originated from an intertribal battlefield near the North Platte River in Nebraska. No known individual was identified. No associated funerary objects are present.

In April 1997, a private individual found the human remains of one individual in Fremont County, CO. Dr. Michael Hoffman of Colorado College determined the remains to be Native American. No known individual was identified. No associated funerary objects are present.

In March 1998, a private individual in Pueblo County, CO, discovered human remains representing one individual. Professor Michael Hoffman of Colorado College determined the remains to be Native American. No known individual was identified. No associated funerary objects are present.

In March 1998, human remains representing one individual were discovered by a construction worker during a Colorado Department of Transportation project. The remains were traced to a load of fill material from the E-470 project in Arapahoe County, CO. Dr. Diane France determined the remains to be most likely Native American. No known individual was identified. No associated funerary objects are present.

In 1998, human remains representing one individual were found on private land in Las Animas County, CO. The coroner determined that the remains are most likely Native American. No known individual was identified. No associated funerary objects are present.

In August 1998, the buried remains of two Native American individuals were found by Metcalf Archaeological Consultants during an archeological survey for a Colorado Interstate Gas pipeline in Las Animas County, CO. No known individual was identified. The two associated funerary objects are groove-and-snap bone beads that are probably made of bird or other animal bone.

On December 27, 1999, the State archeologist received human remains representing one individual that had been discovered in 1973 near Westcliffe, Custer County, CO. The site, known as the Brush County Creek site, was excavated by University of Southern Colorado Professor William Buckles. Circumstances suggest that these remains originated from archeological sites in southeastern Colorado and that the individuals are Native American. No known individual was identified. The two associated funerary objects are a mano and a bone awl.

On December 27, 1999, the State archeologist received the remains of eight individuals from retired University of Southern Colorado Professor William Buckles. At that time, the university was discontinuing its anthropology program and closing its anthropology laboratory. Circumstances suggest that these remains originated from archeological sites in southeastern Colorado and that the individuals are Native American. No known individuals are identified. No associated funerary objects are present.

In April 2000, human remains representing one individual were found by a hiker in Fremont County, CO. The assistant State archeologist determined the burial to be Native American. No known individual was identified. No associated funerary objects are present.

Unless specifically stated above, collections documentation is limited concerning possible dates, cultural affiliation(s), or the circumstances under which the Native American human remains and associated funerary objects described above were found. Colorado's history of tribal relocation, however, suggests that all of the human remains and associated funerary objects described above date from before 1884. Based on the totality of the circumstances surrounding the acquisition of these human remains and associated funerary objects, and evidence of traditional territories, oral traditions, archeological context, material culture, and cranial measurements, officials of the Colorado Historical Society have determined that there is cultural affiliation with the present-day tribes who jointly claim a presence in the region prior to and during the contact period. Official representatives of twelve of these tribes signed and submitted a document to the Colorado Historical Society on October 12, 2000, jointly claiming cultural affiliation to all of the human remains and associated funerary objects described above. The 12 tribes are the Cheyenne-Arapaho Tribes of Oklahoma; Comanche Indian Tribe, Oklahoma; Fort Sill Apache Tribe of Oklahoma; Kiowa Indian Tribe of Oklahoma; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Southern Ute Indian Tribe of the Southern Ute Reservation, Colorado; Three Affiliated Tribes of the Fort Berthold Reservation, North Dakota; Ute Indian Tribe of the Uintah & Ouray Reservation, Utah; and Ute Mountain Tribe of the Ute Mountain Reservation, Colorado, New Mexico & Utah.

Based on the above-mentioned information, officials of the Colorado Historical Society have determined that, pursuant to 43 CFR 10.2 (d)(1), the human remains listed above represent the physical remains of 260 individuals of Native American ancestry. Officials of the Colorado Historical Society also have determined that, pursuant to 43 CFR 10.2 (d)(2), the 548 objects listed above are reasonably believed to have been placed with or near individual human remains at the time of death or later as part of the death rite or ceremony. Lastly, pursuant to 43 CFR 10.2 (e), officials of the Colorado Historical Society have determined that, based upon traditional territories and oral traditions, there is a relationship of shared group identity that can be reasonably traced between these Native American human remains and the Cheyenne-Arapaho Tribes of Oklahoma; Comanche Indian Tribe, Oklahoma; Fort Sill Apache Tribe of Oklahoma; Kiowa Indian Tribe of Oklahoma; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Southern Ute Indian Tribe of the Southern Ute Reservation, Colorado; Three Affiliated Tribes of the Fort Berthold Reservation, North Dakota; Ute Indian Tribe of the Uintah & Ouray Reservation, Utah; and Ute Mountain Tribe of the Ute Mountain Reservation, Colorado, New Mexico & Utah.

This notice has been sent to officials of the Apache Tribe of Oklahoma; Arapahoe Tribe of the Wind River Reservation, Wyoming; Cheyenne-Arapaho Tribes of Oklahoma; Cheyenne River Sioux Tribe of the Cheyenne River Reservation, South Dakota; Comanche Indian Tribe, Oklahoma; Crow Tribe of Montana; Crow Creek Sioux Tribe of the Crow Creek Reservation, South Dakota; Fort Sill Apache Tribe of Oklahoma; Hopi Tribe of Arizona; Jicarilla Apache Tribe of the Jicarilla Apache Indian Reservation, New Mexico; Kiowa Indian Tribe of Oklahoma; Mescalero Apache Tribe of the Mescalero Reservation, New Mexico; Navajo Nation, Arizona, New Mexico & Utah; Northern Cheyenne Tribe of the Northern Cheyenne Indian Reservation, Montana; Oglala Sioux Tribe of the Pine Ridge Reservation, South Dakota; Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Juan, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico, Pueblo of Zia, New Mexico; Rosebud Sioux Tribe of the Rosebud Indian Reservation, South Dakota; Shoshone Tribe of the Wind River Reservation, Wyoming; Shoshone-Bannock Tribes of the Fort Hall Reservation of Idaho; Southern Ute Indian Tribe of the Southern Ute Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico & Utah; Wichita and Affiliated Tribes (Wichita, Keechi, Waco & Tawakonie), Oklahoma; and Zuni Tribe of the Zuni Reservation, New Mexico. Representatives of any other Indian tribe that believes itself to be culturally affiliated with these human remains should contact Anne W. Bond, Director of Collections and Exhibitions, Colorado Historical Society, 1300 Broadway, Denver, CO 80203-2137, telephone (303) 866-4691, before March 22, 2001. Repatriation of the human remains to the Cheyenne-Arapaho Tribes of Oklahoma; Comanche Indian Tribe, Oklahoma; Fort Sill Apache Tribe of Oklahoma; Kiowa Indian Tribe of Oklahoma; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Southern Ute Indian Tribe of the Southern Ute Reservation, Colorado; Three Affiliated Tribes of the Fort Berthold Reservation, North Dakota; Ute Indian Tribe of the Uintah & Ouray Reservation, Utah; and Ute Mountain Tribe of the Ute Mountain Reservation, Colorado, New Mexico & Utah may begin after that date if no additional claimants come forward.

Dated: January 30, 2001.
John Robbins,
Assistant Director, Cultural Resources Stewardship and Partnerships.

[FR Doc. 01-4080 Filed 2-16-01; 8:45 am]

BILLING CODE 4310-70-F